DEPARTMENT OF THE TREASURY

Submission for OMB Review; Comment Request

February 26, 2009.

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11020, 1750 Pennsylvania Avenue, NW., Washington, DC 20220.

DATES: Written comments should be received on or before April 8, 2009, to be assured of consideration.

Treasury Inspector General for Tax Administration (TIGTA)

OMB Number: 1505-XXXX.

Type of Review: New information collection activity.

Title: Generic Clearance for Customer Satisfaction Surveys.

Description: The TIGTA's Office of Audit's mission is to provide independent oversight of IRS activities. Through its audit programs TIGTA promotes efficiency and effectiveness in the administration of internal revenue laws, including the prevention and detection of fraud, waste, and abuse affecting tax administration. To accomplish this, TIGTA Office of Audit at times finds it necessary to contact a limited number of taxpayers (including businesses) for various reasons, including to survey or contact taxpayers on issues such as customer service, for example, to determine the quality of service at IRS walk-in sites called TACs, telephones, during examinations (IRS audits of taxpayer tax returns), to survey or contact taxpayers to determine why certain eligible taxpayers did or did not take certain actions, and to survey or contact taxpayers to determine the accuracy of the IRS records.

Respondents: Individuals or households.

Estimated Total Reporting Burden: 2,500 hours.

Clearance Officer: Kimberly Hyatt, Department of the Treasury, 1500 Pennsylvania Avenue, NW., Washington, DC 20220, (202) 622-5913.

OMB Reviewer: OIRA Desk Officer, Office of Management and Budget, Room 10235, New Executive Office Building, Washington, DC 20503 oira_submission@omb.eop.gov.

Robert Dahl,
Treasury PRA Clearance Officer.

[FR Doc. E9-4833 Filed 3-6-09; 8:45 am]

BILLING CODE 4810-25-P